DEPARTMENT OF ENERGY

[FE Docket No. PP-226]

Notice of Floodplain and Wetlands Involvement Brownsville Public Utilities Board

AGENCY: Office of Fossil Energy, DOE.

ACTION: Notice of Floodplain/Wetland Involvement.

SUMMARY: Brownsville Public Utilities Board (BPUB) has applied for a Presidential permit to construct, connect, operate and maintain a double-circuit electric transmission line across the U.S. border with Mexico. In accordance with Department of Energy (DOE) regulations for compliance with floodplain/wetlands environmental review requirements (10 CFR Part 1022), a floodplain or wetlands assessment will be performed for this proposed action in a manner so as to avoid or minimize potential harm to or within potentially affected floodplain and wetlands.

DATES: Comments are due to the address below no later than July 28, 2000.

ADDRESSES: Written comments, questions about the proposed action, and requests to review the draft environmental assessment should be directed to: Ellen Russell, Office of Coal & Power Import and Export (FE-27), Office of Fossil Energy, U.S. Department of Energy, 1000 Independence Avenue, S.W., Washington, D.C. 20585-0350. Fax: (202) 287-5736. E-mail: Ellen.Russell@hq.doe.gov.

FOR FURTHER INFORMATION CONTACT: Ellen Russell (Program Office) 202-586-9624.

SUPPLEMENTARY INFORMATION: Under Executive Order 11988, Floodplain Management, and 10 CFR Part 1022, Compliance with Floodplain-Wetlands Environmental Review Requirements (http://tis-nt.eh.doe.gov/nepa/tools/regulate/nepa_reg/1022/1022.htm), notice is given that DOE is considering an application from BPUB for a Presidential permit to construct, connect, operate, and maintain electric transmission facilities across the U.S. border with Mexico. BPUB proposes to construct a double-circuit 138,000 volt (138-kV) transmission line, on wood poles, from its existing Silas Ray Power Plant in Brownsville, Texas, and extending 3,000 feet to the U.S.-Mexico border. Notice of BPUB's application for a Presidential permit appeared in the Federal Register on June 30, 2000 (65 FR 40618).

Before making a final decision on granting or denying a Presidential permit to BPUB, DOE will prepare an environmental assessment (EA) to address the environmental impacts that would accrue from the proposed project and reasonable alternatives. The EA will be prepared in compliance with the National Environmental Policy Act of 1969 (NEPA) (42 U.S.C. 4321 et seq.). The EA will include a floodplain and wetlands assessment. DOE expects to have a draft of the EA available for public review in August, 2000. Copies may be requested by telephone, facsimile, or e-mail from the address given above. A floodplain statement of findings will be included in any Finding of No Significant Impact that may be issued following completion of the EA.

If you wish further information on DOE's floodplain and wetlands environmental review requirements, please contact Carol M. Borgstrom, Director, Office of NEPA Policy and Assistance (EH-42), U.S. Department of Energy, 1000 Independence Avenue, SW, Washington, DC 20585-0119; Phone: 202-586-4600 or leave a message at 800-472-2756.

Issued in Washington, DC, on July 7, 2000.
Anthony J. Como,
Deputy Director, Electric Power Regulation, Office of Coal & Power Im/Ex, Office of Fossil Energy.

[FR Doc. 00-17772 Filed 7-12-00; 8:45 am]

BILLING CODE 6450-01-P